DEPARTMENT OF EDUCATION

Privacy Act of 1974; System of Records

AGENCY: Federal Student Aid, Department of Education.

ACTION: Notice of a new system of records.

SUMMARY: In accordance with the Privacy Act of 1974, as amended, Federal Student Aid (FSA) of the U.S. Department of Education publishes this notice of a new system of records for the FSA Students Portal. FSA is requesting to modify the existing FSA Students Portal in order to bring together in one, simple Web site all the information and productivity tools relevant to FSA's customers. This modification will assist FSA's customers in making informed financial aid decisions by allowing them to customize information based upon their own criteria.

DATES: The Department seeks comment on the new system of records described in this notice, in accordance with the requirements of the Privacy Act. We must receive your comments on the proposed routine uses for this system of records included in this notice on or before May 30, 2003.

The Department has filed a report describing the new system of records covered by this notice with the Chairman of the Senate Committee on Governmental Affairs, the Chairman of the House Committee on Government Reform, and the Administrator of the Office of Information and Regulatory Affairs, Office of Management and Budget (OMB) on April 25, 2003. This new system of records will become effective at the later date of—(1) the expiration of the 40-day period for OMB review on June 4, 2003 or (2) May 30, 2003, unless the system of records needs to be changed as a result of public comment or OMB review.

ADDRESSES: Address all comments on the proposed routine uses to Adam Essex, Federal Student Aid, U.S. Department of Education, 830 First St., NE., Rm 31K1, Washington, DC 20202. If you prefer to send your comments through the Internet, use the following address: Comments@ed.gov. You must include the term “FSA Students Portal” in the subject line of your electronic message.

During and after the comment period, you may inspect all comments about this notice at Federal Student Aid (FSA), U.S. Department of Education, 830 First St., NE., Rm 31K1, Washington, DC 20202, between the hours of 8:30 a.m. and 5 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please refer to the information below.

FOR FURTHER INFORMATION CONTACT: Adam Essex, Telephone: (202) 377-3515. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act of 1974 (5 U.S.C. 552a(e)(4)) requires the Department to publish in the Federal Register this notice of a new system of records maintained by the Department. The Department's regulations implementing the Privacy Act of 1974 are contained in the Code of Federal Regulations (CFR) in 34 CFR part 5b.

The Privacy Act of 1974 (Privacy Act), 5 U.S.C. 552a, applies to a record about an individual that is retrieved by a unique identifier associated with each individual, such as a name or social security number. The information about each individual is called a “record” and the system, whether manual or computer-driven, is called a “system of records.” The Privacy Act requires each agency to publish notices of systems of records in the Federal Register and to prepare reports to the Office of Management and Budget (OMB) whenever the agency publishes a new or “altered” system of records.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Authority: 40 U.S.C. 1425(b).

Dated: April 25, 2003.
Theresa S. Shaw,
Chief Operating Officer, Federal Student Aid.

For reasons discussed in the preamble, the Chief Operating Officer of Federal Student Aid (FSA) of the U.S. Department of Education publishes a notice of a new system of records to read as follows:

18-11-14

SYSTEM NAME:

FSA Students Portal.

SECURITY CLASSIFICATION:

None.

SYSTEM LOCATION(S):

(1) Virtual Data Center (VDC) (operated by CSC, Inc.), Meriden Data Center, 71 Deerfield Lane, Meriden, CT 06450.

(2) Students Portal Database (operated by XAP Corp.) 3534 Hayden Ave., Culver City, CA 90232.

CATEGORIES OF INDIVIDUALS COVERED BY THE SYSTEM:

Any user with Internet accessibility that is interested in exploring financial aid information and chooses to personalize the “Students Portal” an Internet Portal web site (hereafter “the Web site”). The personalization functionality is referred to as “My FSA” (http://www.studentaid.ed.gov).

CATEGORIES OF RECORDS IN THE SYSTEM:

Records will include the information listed below. It is optional for the user to enter this information. This list is not all-inclusive, but it is a sample of the types of information that may be entered by the user. (See Appendix at the end of the Notice for a listing of the types of records collected). Some of the information requested in the Web site includes such information as: User's name; User's address(es); User's e-mail; User's personal information, such as social security number, date of birth, marital status, and telephone number; User's high school information such as current grade level, courses taken, grades, and activities; User's educational information, such as educational level, degree, etc.; User's interests such as job interests, values, and college preferences; Scores from User's standardized tests such as SAT or ACT; Parent's information such as address and veteran status; Spouse's information such as name and address; User's employment/work history; and User's bookmarks (URL's) Students will have the option of choosing the data to enter into the text fields. The Web site also includes a short survey where information about user experiences and opinions of the FSA Students Portal is stored for future Web site enhancement. While the surveys are not intended to be able to identify a particular user, some users may choose to include personally identifiable information in some text fields. (For instance if they have a question that requires a response.)

AUTHORITY FOR MAINTENANCE OF THE SYSTEM:

Title IV of the Higher Education Act of 1965, as amended, 40 U.S.C. 1425 (b), and 44 U.S.C. Chapter 35.

PURPOSE(S):

The primary reason for storing the records of users of the Web site is to provide them with better service. The information stored by the Web site will be used for the following reasons:

• To allow the Web site to provide information relevant and targeted to the user (information about schools, loans, organizations, etc.)

• To assist with filling out applications to colleges and universities (i.e., enter the information only once)

• To “prepopulate” the electronic Free Application for Federal Student Aid (FAFSA)

• To store personal information so that it can be retrieved later without having to start over (such as schools, programs, majors, loan information of interest to a specific user)

• Some fields are used to help indicate which of the records are active (such as last modified date)

• Some fields are used for security reasons (e.g. User ID, password, and password expiration).

ROUTINE USES OF RECORDS MAINTAINED IN THE SYSTEM, INCLUDING CATEGORIES OF USERS AND THE PURPOSES OF SUCH USES:

The Department of Education (Department) may disclose information contained in a record in this system of records under the routine uses listed in this system of records without the consent of the individual if the disclosure is compatible with the purposes for which the record was collected. These disclosures may be made on a case-by-case basis or, if the Department has complied with the computer matching requirements of the Act, under a computer matching agreement.

(1) Freedom of Information Act (FOIA) Advice Disclosure. The Department may disclose records to the Department of Justice (DOJ) and the Office of Management and Budget if the Department seeks advice regarding whether records maintained in the system of records are required to be released under the FOIA and the Privacy Act of 1974.

(2) Disclosure to the DOJ. The Department may disclose records to the DOJ to the extent necessary for obtaining DOJ advice on any matter relevant to an audit, inspection, or other inquiry related to the programs covered by this system.

(3) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(4) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department, or any of its components; or

(ii) Any Department employee in his or her official capacity; or

(iii) Any Department employee in his or her official capacity where the Department of Justice (DOJ) is requested to provide or arrange for representation of the employee;

(iv) Any Department employee in his or her individual capacity where the Department has agreed to represent the employee; or

(v) The United States where the Department determines that the litigation is likely to affect the Department or any of its components.

(b) Disclosure to the Department of Justice (DOJ). If the Department determines that disclosure of certain records to the DOJ, or attorneys engaged by DOJ, is relevant and necessary to litigation or ADR, and is compatible with the purpose for which the records were collected, the Department may disclose those records as a routine use to the DOJ.

(c) Adjudicative disclosures. If the Department determines that disclosure of certain records to an adjudicative body before which the Department is authorized to appear, an individual or entity designated by the Department or otherwise empowered to resolve or mediate disputes is relevant and necessary to the litigation or ADR, the Department may disclose those records as a routine use to the adjudicative body, individual, or entity.

(d) Parties, counsels, representatives and witnesses. If the Department determines that disclosure of certain records to a party, counsel, representative or witness is relevant and necessary to the litigation or ADR, the Department may disclose those records as a routine use to the party, counsel, representative or witness.

(5) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(6) Congressional Member Disclosure. The Department may disclose records to a member of Congress from the record of an individual in response to an inquiry from the member made at the written request of that individual. The Member's right to the information is no greater than the right of the individual who requested it.

(7) Disclosure for Use By Law Enforcement Agencies. The Department may disclose information to any Federal, State, local or other agencies responsible for enforcing, investigating, or prosecuting violations of administrative, civil, or criminal law or regulation if that information is relevant to any enforcement, regulatory, investigative or prosecutorial responsibility within the entity's jurisdiction.

(8) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

(9) Employment, Benefit, and Contracting Disclosure.

(a) For Decisions by the Department. The Department may disclose a record to a Federal, State, or local agency maintaining civil, criminal, or other relevant enforcement or other pertinent records, or to another public authority or professional organization, if necessary to obtain information relevant to a decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(10) Employee Grievance, Complaint or Conduct Disclosure. The Department may disclose a record in this system of records to another agency of the Federal Government if the record is relevant to one of the following proceedings regarding a present or former employee of the Department: complaint, grievance, discipline or competence determination proceedings. The disclosure may only be made during the course of the proceeding.

(11) Labor Organization Disclosure. The Department may disclose records from this system of records to an arbitrator to resolve disputes under a negotiated grievance procedure or to officials of labor organizations recognized under 5 U.S.C. chapter 71 when relevant and necessary to their duties of exclusive representation.

(12) Disclosure to Providers of Web-based Postsecondary Education Admissions Applications. The Department may disclose records in this system of records to providers of Web-based postsecondary educational institution admissions applications so that users of the Web site may “pre-populate” their college or university admissions applications with their own registration information that was previously saved on the Web site. (See Appendix at the end of the Notice where registration information is identified as “Data Collected in Students Portal Modules”).

DISCLOSURES TO CONSUMER REPORTING AGENCIES:

Not applicable to this system of records.

POLICIES AND PRACTICES FOR STORING, RETRIEVING, ACCESSING, RETAINING, AND DISCLOSING OF RECORDS IN THE SYSTEM:

STORAGE:

A majority of the Student data will be stored in a database (SQL Server 2000) maintained at XAP Corp. The student data is also stored in an Oracle database at the Virtual Data Center (VDC). Each location includes safeguards, including physical security of the server room, firewalls, etc.

RETRIEVABILITY:

Each record in this system is indexed and retrieved by a user name and password that is created by the user of the http://www.studentaid.ed.gov Web site.

SAFEGUARDS:

All users of this system will have a unique user ID with a personal identifier.

This system does not use persistent cookies (data that a web server causes to be placed on a user's hard drive) to implement personalization. It is the policy of the Department to prohibit the use of persistent cookies on U.S. Department of Education web sites except where: there is a compelling need; there are appropriate safeguards in place; the use is personally approved by the Secretary of Education; and there is clear and conspicuous notice to the public.

All physical access to the U.S. Department of Education web site and the sites of Department contractors where this system of records is maintained, is controlled and monitored by security personnel who check each individual entering the building for his or her employee or visitor badge.

The computer system employed by the U.S. Department of Education offers a high degree of resistance to tampering and circumvention. This security system limits data access to the Department, and contract staff on a “need to know” basis, and controls individual users' ability to access and alter records within the system.

RETENTION AND DISPOSAL:

FSA Students Portal customers can remove any information about their web preferences (i.e., the subjects, levels of education, types of resources, and audience-targeted materials in which they are interested), as well as any bookmarks or saved searches they have stored on the Department's web pages. U.S. Department of Education customers, however, cannot delete their names, zip codes, or e-mail addresses from the system (although they can replace it with other information). The system, however, automatically will purge any unused accounts after a certain period of disuse. National Archives and Records Administration General Records Schedule 20, Item 1.c provides disposal authorization for electronic files and hard-copy printouts created to monitor system usage, including, but not limited to, log-in files, password files, audit trail files, system usage files, and cost-back files used to assess charges for system use. Records will be deleted or destroyed when the agency determines they are no longer needed for administrative, legal, audit, or other operational purposes.

SYSTEM MANAGERS AND ADDRESS:

General Manager, Students Channel, Federal Student Aid, U.S. Department of Education, 830 First Street, NE., Washington, DC 20202.

NOTIFICATION PROCEDURE:

If you wish to determine whether a record exists regarding you in this system of records, you may gain access to the system by entering your user name and password to the http://www.studentaid.ed.gov Web site. Individuals may also present their requests in writing or in person by contacting the system administrator through the fsa.portals@ed.gov e-mail address or at the above address. If you wish to determine whether a record exists about you in the system of records, provide the system manager with your name, date of birth and social security number. Your request for notification must meet the requirements of the regulations at 34 CFR 5b.5, including proof of identity.

RECORD ACCESS PROCEDURES:

Users will be granted access to their own record via the http://www.studentaid.ed.gov Web site when they are able to provide their User ID and password. Otherwise, users wishing to gain access to records in this system of records must contact the system manager at fsa.portals@ed.gov e-mail address or at the above address and follow the steps outlined in the Notification procedure. Request to access a record must also reasonably specify the record contents sought and otherwise meet the requirements of the regulations at 34 CFR 5b.5, including proof of identity.

CONTESTING RECORD PROCEDURES:

If you wish to change the content of a record in this system of records, you may gain access to the system and alter the record via the http://www.studentaid.ed.gov Web site and using the system edits and update function. Otherwise, you must contact the system manager at fsa.portals@ed.gov e-mail address or at the above address and follow the steps outlined in the Notification procedure. Requests to amend a record must also reasonably identify the record, specify the information being contested, and otherwise meet the regulations at 34 CFR 5b.7.

RECORD SOURCE CATEGORIES:

Information in this system is obtained from customers who use the http://www.studentaid.ed.gov Web site and complete the optional web site personalization referred to as “My FSA”. The “My FSA” personalization form provides the information contained within the system.

SYSTEM EXEMPTED FROM CERTAIN PROVISIONS OF THE ACT:

None.

Appendix—FSA Students Portal Fields

Attribute (Description)

Profile

• User Name

• First Name

• Last Name

• email address

• Password

• Password Hint

• Fax Number

• Prefix

• Suffix

• Social Security Number

• Affiliation

• Telephone Number

• Date Created

• Date Modified

• Date Password Expires

• Date of Birth

• Education Level

• State Residence

• State School

• School Name

• Major

• Country

• Modified By

• Password Hint Question

• Password Hint Answer

Edpack (Edpack stores favorites for the user)

• Applications List (List of College Applications in process/submitted)

• College List (Store a list of Colleges the user is interested in from College Search/Wizard)

• Career List (Store List of interesting Careers from the Self Assessment Tool)

• Financial Aid List (Store Scholarships, Loans, and Cost of attendance Info for schools in the Edpack)

• Calendar Events (See Calendar Events Section Below)

• User Profile (Access User data from Applications)

• Bookmarks list (Stores a list of links/bookmarks for the user (some generated by the system, others entered by the user))

Self Assessment

• JobInterest (Stores a list of jobs the user finds interesting, the list is dynamic (database driven)

These describe how it applies to me

• MeTools (like to work with animals, tools, or machines)

• MeMath (study math or science)

• MeCreate (creative activities)

• MeHelpOthers (Helping others)

• MeLeadership (Lead and pursuade)

• MeOrdered (work in an orderly way)

These describe how I compare to others my age

• CompTools (like to work with animals, tools, or machines)

• CompMath (study math or science)

• CompCreate (creative activities)

• CompHelp (Helping others)

• CompLeadership (Lead and pursuade)

• CompOrdered (work in an orderly way)

To what extent do I value

• ValueTools (like to work with animals, tools, or machines)

• ValueScience (study math or science)

• ValueCreate (creative activities)

• ValueHelp (Helping others)

• ValueLeadership (Success in politics,leadership, or business)

• ValueSuccess (success in business)

How do I see myself

• AmPractical (like to work with animals, tools, or machines)

• AmPrecise (study math or science)

• AmArtistic (creative activities)

• AmHelpful (Helping others)

• AmAmbitious (Lead and pursuade)

• AmOrderly (work in an orderly way)

These are true of me

• TruePractical (like to work with animals, tools, or machines)

• TruePrecise (study math or science)

• TrueArtistic (creative activities)

• TrueHelpful (Helping others)

• TrueAmbitious (Lead and pursuade)

• TrueOrderly (work in an orderly way)

Career Finder Interest Areas

• Realistic

• Investigative

• Artistic

• Social

• Enterprising

• Conventional

• Industry (Pick an Industry of interest from a list)

• General Work Activities (Pick from a list)

Abilities

• Knowledge-Based

• Physical Dexterity

• Physical Strength

• Sensory Abilities

• Work Environment (Indoor/Outdoor)

College Finder/College Matching Wizard

• CollegeType (2 year/4year/trade)

• CollegePublic (Public or Private)

• CollegePublicWeight (How important is this factor)

• CollegeState1 (Location)

• CollegeState2

• CollegeState3

• CollegeZip

• CollegeCityType (Small Town/Big City)

• CollegeCityTypeWeight (How important is this factor)

• CollegeSize

• CollegeSizeWeight (How important is this factor)

• ClassSizeFr (Class size freshman year)

• ClassSizeUpper (Class size for upper division courses)

• StudentFacultyRatio

• Major1 (Pick from a list)

• Major2

• Major3

• GPArange

• ACTscoreRange

• SATscoreRange

• InStateCost (Pick from a range of costs)

• OutStateCost

• HelpOffCampHousing

• OnCampusHousing

• OCHweight (How important is this factor)

• Sport1 (Sports that interest the user)

• Sport2

• Sport3

• FratSorority (Does the campus have

Fraternities/Sororities)

• Fsweight (How important is this factor)

• StActivity (Choose from a list)

• Coed

• ReligousAffiliation

• HBC (Historically Black college)

Scholarship Search

• A majority of the fields used here are already captured in the college application (Personal Info, Address Info, HS Info, College Info, Testing Info, Parents Info)

• MaritalStatus

• Heritage1 (Choose up to 4 from a list)

• Heritage2

• Heritage3

• Heritage4

• CurrentGradeLevel

• EnrollmentStatus

• Activities List (Pick from a number of activities grouped by category (Business/Corp., Club Affiliation, Disability, Hobbies, Military Affiliation, National Merit, Athletics, Union Affiliation, Misc., Career Objective, or Programs of Study))

• ParentVeteran? (Is either parent a Veteran)

• ParentDisabledInMilitary?

• ParentKilledInMilitary?

• HouseholdIncome (Annual)

Financial Aid Wizard For each School tracked in the user's EDpack

• Tuition

• RoomBoard

• Fees

• Books

• OtherExpense

Used in the EFC calculation

• StOfResidence

• Veteran?

• SchoolsOfAttendance

• ChildSupport?

• OtherDependants?

• Orphan?

• PeopleInHousehold

• CollegeStudentIn House

• CompletedTaxReturn?

• 1040EZ Able to file 1040A or 1040EZ)

• AGI (Adjusted Gross Income)

• IncomeTax

• Exemptions

• YouWages

• SpouseWages

• WorksheetA

• WorksheetB

• WorksheetC

• CurrentSavings

• NetWorthInvestments

• NetWorthFarms

• EFC (Expected Family Contribution)

For each School tracked in Edpack

• Scholarship (Amount available in outside scholarships)

• PellGrant (Amount available from Pell Grant)

• StScholarshipGrant

• InstitutionalGrant

• Perkins

• DirectLoan

• WorkStudy

Events/Calendar

• Title

• Detail

• Category

• StartDate

• StartTime

• EndDate

• EndTime

[FR Doc. 03-10641 Filed 4-29-03; 8:45 am]

BILLING CODE 4000-01-P